COMMISSION ON CIVIL RIGHTS

Sunshine Act Meeting Notice

AGENCY: Commission on Civil Rights.

Dates and Time: Friday, March 21, 2003, 9:30 a.m.

PLACE: U.S. Commission on Civil Rights, 624 Ninth Street, NW., Room 540, Washington, DC 20425.

Status:

Agenda

I. Approval of Agenda

II. Approval of Minutes of February 7, 2003 Meeting

III. Announcements

IV. Staff Director's Report

V. State Advisory Committee Appointments for Minnesota and Interim Appointment for Illinois

VI. Future Agenda Items

10:30 a.m. Presentation on Civil Rights Issues Affecting the Latino Community in the District of Columbia

FOR FURTHER INFORMATION CONTACT: Les Jin, Press and Communications, (202) 376-7700.

Debra A. Carr,
Deputy General Counsel.

[FR Doc. 03-6290 Filed 3-12-03; 12:29 pm]

BILLING CODE 6335-01-M